DEPARTMENT OF ENERGY

Federal Energy Regulatory Commission

[Project No. 15311-000]

Neptune Pumped Storage 2, LLC; Notice of Preliminary Permit Application Accepted for Filing and Soliciting Comments, Motions To Intervene, and Competing Applications

On May 8, 2023, Neptune Pumped Storage 2, LLC filed an application for a preliminary permit, pursuant to section 4(f) of the Federal Power Act (FPA), proposing to study the feasibility of the Soldier Camp Pumped Storage Project (or project). The project would be located on Lobster Creek in Curry County, OR, approximately 4 miles north of the Rogue River. The sole purpose of a preliminary permit, if issued, is to grant the permit holder priority to file a license application during the permit term. A preliminary permit does not authorize the permit holder to perform any land-disturbing activities or otherwise enter upon lands or waters owned by others without the owners' express permission.

Neptune Pumped Storage 2, LLC has proposed to construct: (1) an upper reservoir with a surface area of 50 acres and a storage volume of approximately 3,000 acre-feet created by a 5,600-foot-long, 70-foot-high rockfill embankment ring dike; (2) a lower reservoir with a surface area of 50 acres and a storage volume of approximately 3,000 acre-feet created by a 5,700-foot-long, 70-foot-high rockfill embankment ring dike; (3) a 1,825 foot-long steel and concrete penstock with a diameter of 22-feet; (4) a 550-foot-long, 120-foot-wide concrete powerhouse/pump station located on the lower reservoir shoreline containing 6 generating/pumping units for a total generating capacity of 550 MW; (5) an approximate 13-mile, 230-kilovolt (kV) transmission line from a proposed substation near the powerhouse to an existing substation on Nesika Beach Dump Rd that would interconnect to the regional transmission grid; (6) an approximately 1.7-mile-long underground pipeline with a 100 cfs capacity and a diameter of 2.5-feet diverting water from Lobster Creek for initial fill and annual maintenance fill; and, (7) appurtenant facilities. The proposed project would be operated as a closed-loop system and generate an estimated annual average of 1,606 gigawatt-hours.

Applicant Contact: Mr. Nate Sandvig, Rye Development, LLC, 220 NW 8th Ave, Portland, OR, 97209, (503) 309-2496, nathan@ryedevelopment.com.

FERC Contact: Jeffrey Ackley at jeffrey.ackley@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15311-000.

More information about this project, including a copy of the application, can be viewed or printed on the “eLibrary” link of Commission's website at http://www.ferc.gov/docs-filing/elibrary.asp. Enter the docket number (P-15311-000) in the docket number field to access the document. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 23, 2023.
Kimberly D. Bose,
Secretary.

[FR Doc. 2023-11397 Filed 5-26-23; 8:45 am]

BILLING CODE 6717-01-P